DEPARTMENT OF TRANSPORTATION

Federal Aviation Administration

14 CFR Part 97

[Docket No. 30658; Amdt. No 3314]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 31, 2009. The compliance date for each SIAP, associated Takeoff Minimums, and ODP is specified in the amendatory provisions.

The incorporation by reference of certain publications listed in the regulations is approved by the Director of the Federal Register as of March 31, 2009.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on March 20, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 07 MAY 2009

Fairbanks, AK, Fairbanks Intl, RNAV (GPS) RWY 2R, Orig

Fairbanks, AK, Fairbanks Intl, RNAV (GPS) RWY 20L, Orig

Fairbanks, AK, Fairbanks Intl, RNAV (GPS) X RWY 1L, Orig

Fairbanks, AK, Fairbanks Intl, RNAV (GPS) X RWY 19R, Orig

Fairbanks, AK, Fairbanks Intl, Takeoff Minimums and Obstacle DP, Amdt 4

Tanana, AK, Ralph M. Calhoun Memorial, Takeoff Minimums and Obstacle DP, Amdt 1

Long Beach, CA, Long Beach/Daugherty Field, RNAV (RNP) RWY 25R, Orig-A

Vacaville, CA, Nut Tree, Takeoff Minimums and Obstacle DP, Amdt 4

Vacaville, CA, Nut Tree, VOR/DME-A, Amdt 5

Akron, CO, Colorado Plains Regional, RNAV (GPS) RWY 11, Amdt 1

Akron, CO, Colorado Plains Regional, Takeoff Minimums and Obstacle DP, Orig

Fort Collins/Loveland, CO, Fort Collins-Loveland Muni, GPS RWY 15, Orig, CANCELLED

Fort Collins/Loveland, CO, Fort Collins-Loveland Muni, GPS RWY 33, Amdt 1, CANCELLED

Fort Collins/Loveland, CO, Fort Collins-Loveland Muni, ILS OR LOC RWY 33, Amdt 6

Fort Collins/Loveland, CO, Fort Collins-Loveland Muni, RNAV (GPS) RWY 15,Orig

Fort Collins/Loveland, CO, Fort Collins-Loveland Muni, RNAV (GPS) RWY 33, Orig

Fort Collins/Loveland, CO, Fort Collins-Loveland Muni, VOR/DME-A, Amdt 7

Montrose, CO, Montrose Rgnl, GPS RWY 13, Orig-B, CANCELLED

Montrose, CO, Montrose Rgnl, GPS RWY 17, Orig-A, CANCELLED

Montrose, CO, Montrose Rgnl, GPS RWY 35, Orig-B, CANCELLED

Montrose, CO, Montrose Rgnl, RNAV (GPS) RWY 13, Orig

Montrose, CO, Montrose Rgnl, RNAV (GPS) RWY 35, Orig

Montrose, CO, Montrose Rgnl, RNAV (GPS) Y RWY 17, Orig

Montrose, CO, Montrose Rgnl, RNAV (GPS) Z RWY 17, Orig

Montrose, CO, Montrose Rgnl, Takeoff Minimums and Obstacle DP, Amdt 4

Montrose, CO, Montrose Rgnl, VOR/DME RWY 13, Amdt 9

Apalachicola, FL, Apalachicola Rgnl, RNAV (GPS)-A, Orig

Apalachicola, FL, Apalachicola Rgnl, RNAV (GPS)-B, Orig

Defuniak Springs, FL, Defuniak Springs, RNAV (GPS) RWY 9, Orig

Defuniak Springs, FL, Defuniak Springs, RNAV (GPS) RWY 27, Orig

Defuniak Springs, FL, Defuniak Springs, Takeoff Minimums and Obstacle DP, Orig

Cherokee, IA, Cherokee County Rgnl, Takeoff Minimums and Obstacle DP, Amdt 3

Mc Call, ID, Mc Call Muni, GPS RWY 34, Orig, CANCELLED

Mc Call, ID, Mc Call Muni, RNAV (GPS) RWY 34, Orig

Mc Call, ID, Mc Call Muni, Takeoff Minimums and Obstacle DP, Amdt 2

Pocatello, ID, Pocatello Rgnl, RNAV (GPS) RWY 21, Amdt 1

Champaign/Urbana, IL, University of Illinois-Willard, ILS OR LOC RWY 32R, Amdt 12

Champaign/Urbana, IL, University of Illinois-Willard, NDB RWY 32R, Amdt 11

Champaign/Urbana, IL, University of Illinois-Willard, RNAV (GPS) RWY 4, Orig

Champaign/Urbana, IL, University of Illinois-Willard, VOR RWY 4, Amdt 12

Chicago, IL, Chicago Midway Intl, RNAV (GPS) RWY 31C, Amdt 1

Chicago, IL, Chicago Midway Intl, RNAV (RNP) Y RWY 13C, Amdt 1

Bloomington, IN, Monroe County, RNAV (GPS) RWY 17, Amdt 1

Bloomington, IN, Monroe County, RNAV (GPS) RWY 35, Amdt 1

Beloit, KS, Moritz Memorial, RNAV (GPS) RWY 17, Orig

Beloit, KS, Moritz Memorial, RNAV (GPS) RWY 35, Orig

Beloit, KS, Moritz Memorial, VOR/DME RWY 17, Amdt 4

Flemingsburg, KY, Fleming-Mason, GPS RWY 7, Orig, CANCELLED

Flemingsburg, KY, Fleming-Mason, GPS RWY 25, Orig, CANCELLED

Flemingsburg, KY, Fleming-Mason, RNAV (GPS) RWY 7, Orig

Flemingsburg, KY, Fleming-Mason, RNAV (GPS) RWY 25, Orig

Flemingsburg, KY, Fleming-Mason, VOR/DME-A, Amdt 6

Madisonville, KY, Madisonville Muni, RNAV (GPS) RWY 5, Orig

Madisonville, KY, Madisonville Muni, RNAV (GPS) RWY 23, Orig

Madisonville, KY, Madisonville Muni, VOR RWY 23, Amdt 14

Madisonville, KY, Madisonville Muni, VOR/DME RNAV RWY 23, Amdt 4, CANCELLED

Pikeville, KY, Pike County-Hatcher Field, Takeoff Minimums and Obstacle DP, Orig

De Ridder, LA, Beauregard Rgnl, LOC RWY 36, Amdt 3

De Ridder, LA, Beauregard Rgnl, NDB RWY 36, Amdt 5

De Ridder, LA, Beauregard Rgnl, RNAV (GPS) RWY 18, Orig

De Ridder, LA, Beauregard Rgnl, RNAV (GPS) RWY 36, Amdt 1

De Ridder, LA, Beauregard Rgnl, Takeoff Minimums and Obstacle DP, Amdt 4

Reserve, LA, St John The Baptist Parish, GPS RWY 17, Orig-A, CANCELLED

Reserve, LA, St John The Baptist Parish, RNAV (GPS) RWY 17, Orig

Reserve, LA, St John The Baptist Parish, Takeoff Minimums and Obstacle DP, Orig

Salisbury, MD, Salisbury-Ocean City Wicomico Rgnl, ILS OR LOC RWY 32, Amdt 7

Salisbury, MD, Salisbury-Ocean City Wicomico Rgnl, RNAV (GPS) RWY 32, Amdt 1

Salisbury, MD, Salisbury-Ocean City Wicomico Rgnl, VOR RWY 23, Amdt 10

Battle Creek, MI, W K Kellogg, GPS RWY 05, Orig-A, CANCELLED

Battle Creek, MI, W K Kellogg, RNAV (GPS) RWY 5, Orig

Battle Creek, MI, W K Kellogg, RNAV (GPS) RWY 23, Orig

Escanaba, MI, Delta County, RNAV (GPS) RWY 9, Orig

Escanaba, MI, Delta County, RNAV (GPS) RWY 27, Orig

Escanaba, MI, Delta County, Takeoff Minimums and Obstacle DP, Orig

Escanaba, MI, Delta County, VOR RWY 09, Amdt 14

Escanaba, MI, Delta County, VOR RWY 27, Amdt 12

Branson, MO, Branson, ILS OR LOC RWY 32, Orig

Branson, MO, Branson, RNAV (GPS) RWY 14, Orig

Branson, MO, Branson, RNAV (GPS) RWY 32, Orig

Branson, MO, Branson, Takeoff Minimums and Obstacle DP, Orig

Hannibal, MO, Hannibal Rgnl, NDB RWY 35, Amdt 4

Hannibal, MO, Hannibal Rgnl, RNAV (GPS) RWY 17, Orig

Hannibal, MO, Hannibal Rgnl, RNAV (GPS) RWY 35, Orig

Hannibal, MO, Hannibal Rgnl, VOR/DME-A, Amdt 4

Hannibal, MO, Hannibal Rgnl, Takeoff Minimums and Obstacle DP. Orig

Maryville, MO, Northwest Missouri Rgnl, NDB OR GPS RWY 14, Amdt 3, CANCELLED

Jackson, MS, Jackson-Evers Intl, RNAV (GPS) RWY 16L, Amdt 1

Jackson, MS, Jackson-Evers Intl, RNAV (GPS) RWY 16R, Amdt 1

Jackson, MS, Jackson-Evers Intl, RNAV (GPS) RWY 34L, Amdt 2

Jackson, MS, Jackson-Evers Intl, RNAV (GPS) RWY 34R, Amdt 1

Tupelo, MS, Tupelo Rgnl, GPS RWY 18, Orig, CANCELLED

Tupelo, MS, Tupelo Rgnl, GPS RWY 36, Orig, CANCELLED

Tupelo, MS, Tupelo Rgnl, ILS OR LOC RWY 36, Amdt 9

Tupelo, MS, Tupelo Rgnl, RNAV (GPS) RWY 18, Orig

Tupelo, MS, Tupelo Rgnl, RNAV (GPS) RWY 36, Orig

West Point, MS, Mc Charen Field, VOR-A, Amdt 4

West Point, MS, Mc Charen Field, VOR/DME-B, Amdt 5

Helena, MT, Helena Rgnl, RNAV (RNP) Y RWY 27, Orig

Helena, MT, Helena Rgnl, RNAV (RNP) Z RWY 9, Orig

Helena, MT, Helena Rgnl, RNAV (RNP) Z RWY 27, Orig

Ord, NE, Evelyn Sharp Field, GPS RWY 31, Orig, CANCELLED

Ord, NE, Evelyn Sharp Field, RNAV (GPS) RWY 13, Orig

Ord, NE, Evelyn Sharp Field, RNAV (GPS) Y RWY 31, Orig

Ord, NE, Evelyn Sharp Field, RNAV (GPS) Z RWY 31, Orig

Ord, NE, Evelyn Sharp Field, Takeoff Minimums and Obstacle DP, Amdt 3

Laconia, NH, Laconia Muni, Takeoff Minimums and Obstacle DP, Amdt 4

East Hampton, NY, East Hampton, RNAV (GPS) RWY 28, Orig

East Hampton, NY, East Hampton, RNAV (GPS) Y RWY 10, Orig

East Hampton, NY, East Hampton, RNAV (GPS) Z RWY 10, Orig

East Hampton, NY, East Hampton, VOR-A, Amdt 11

East Hampton, NY, East Hampton, VOR/DME RNAV OR GPS RWY 10, AMDT 6, CANCELLED

East Hampton, NY, East Hampton, VOR/DME RNAV OR GPS RWY 28, Amdt 3, CANCELLED

Rome, NY, Griffiss Intl, RNAV (GPS) RWY 15, Orig

Rome, NY, Griffiss Intl, RNAV (GPS) RWY 33, Orig

Astoria, OR, Astoria Regional, RNAV (GPS) RWY 26, Orig

Ebensburg, PA, Ebensburg, RNAV (GPS) RWY 7, Orig

Ebensburg, PA, Ebensburg, RNAV (GPS) RWY 25, Orig

Ebensburg, PA, Ebensburg, Takeoff Minimums and Obstacle DP, Amdt 2

Ebensburg, PA, Ebensburg, VOR-A, Amdt 7

Philadelphia, PA, Philadelphia Intl, ILS OR LOC/DME RWY 27R; ILS RWY 27R (CAT II), Amdt 10C

Philadelphia, PA, Philadelphia Intl, RNAV (GPS) RWY 27R, Amdt 1B

Tower City, PA, Bendigo, RNAV (GPS)-A, Orig

Pawtucket, RI, North Central State, GPS RWY 23, Orig-A, CANCELLED

Pawtucket, RI, North Central State, RNAV (GPS) RWY 23, Orig

Pawtucket, RI, North Central State, Takeoff Minimums and Obstacle DP, Amdt 3

Florence, SC, Florence Rgnl, GPS RWY 1, Orig, CANCELLED

Florence, SC, Florence Rgnl, GPS RWY 9, Orig, CANCELLED

Florence, SC, Florence Rgnl, GPS RWY 19, Orig, CANCELLED

Florence, SC, Florence Rgnl, GPS RWY 27, Orig, CANCELLED

Florence, SC, Florence Rgnl, ILS OR LOC RWY 9, Amdt 12

Florence, SC, Florence Rgnl, RNAV (GPS) RWY 1, Orig

Florence, SC, Florence Rgnl, RNAV (GPS) RWY 9, Orig

Florence, SC, Florence Rgnl, RNAV (GPS) RWY 19, Orig

Florence, SC, Florence Rgnl, RNAV (GPS) RWY 27, Orig

Winner, SD, Winner Rgnl, RNAV (GPS) RWY 13, Orig

Winner, SD, Winner Rgnl, RNAV (GPS) RWY 31, Orig

Winner, SD, Winner Rgnl, Takeoff Minimums and Obstacle DP, Amdt 3

Winner, SD, Winner Rgnl, VOR-A, Amdt 7

Madisonville, TN, Monroe County, NDB RWY 5, Amdt 5, CANCELLED

Madisonville, TN, Monroe County, RNAV (GPS) RWY 5, Amdt 1

Madisonville, TN, Monroe County, RNAV (GPS) RWY 23, Amdt 1

Tullahoma, TN, Tullahoma Rgnl/Wm Northern Fld, SDF RWY 18, Amdt 5

Tullahoma, TN, Tullahoma Rgnl/Wm Northern Fld, Takeoff Minimums and Obstacle DP, Orig

Canadian, TX, Hemphill County, GPS RWY 4, Orig, CANCELLED

Canadian, TX, Hemphill County, GPS RWY 22, Orig-A, CANCELLED

Canadian, TX, Hemphill County, RNAV (GPS) RWY 4, Orig

Canadian, TX, Hemphill County, RNAV (GPS) RWY 22, Orig

Fort Worth, TX, Fort Worth Meacham Intl, GPS RWY 34, Orig-D, CANCELLED

Fort Worth, TX, Fort Worth Meacham Intl, RNAV (GPS) RWY 16, Amdt 1

Fort Worth, TX, Fort Worth Meacham Intl, RNAV (GPS) RWY 34, Orig

Houston, TX, Houston Executive, RNAV (GPS) RWY 36, Amdt 1

Wink, TX, Winkler County, RNAV (GPS) RWY 13, Orig

Wink, TX, Winkler County, RNAV (GPS) RWY 31, Orig

Wink, TX, Winkler County, Takeoff Minimums and Obstacle DP, Orig

Wink, TX, Winkler County, VOR RWY 13, Amdt 10

Blacksburg, VA, Virginia Tech/Montgomery Executive, NDB-A, Amdt 4

Blacksburg, VA, Virginia Tech/Montgomery Executive, RNAV (GPS) RWY 12, Amdt 1

Blacksburg, VA, Virginia Tech/Montgomery Executive, RNAV (GPS) RWY 30, Orig

Ephrata, WA, Ephrata Muni, RNAV (GPS) RWY 3, Orig

Ephrata, WA, Ephrata Muni, RNAV (GPS) RWY 21, Orig

Ephrata, WA, Ephrata Muni, Takeoff Minimums and Obstacle DP, Amdt 3

Ephrata, WA, Ephrata Muni, VOR RWY 21, Amdt 19

Ephrata, WA, Ephrata Muni, VOR/DME RWY 3, Amdt 4

Snohomish, WA, Harvey Field, RNAV (GPS)-A, Orig

Snohomish, WA, Harvey Field, Takeoff Minimums and Obstacle DP, Orig

Middleton, WI, Middleton Muni-Morey Field, LOC/DME RWY 10, Amdt 1

Middleton, WI, Middleton Muni-Morey Field, RNAV (GPS) RWY 10, Amdt 1

Middleton, WI, Middleton Muni-Morey Field, RNAV (GPS) RWY 28, Amdt 2

Monroe, WI, Monroe Muni, RNAV (GPS) RWY 12, Orig

Monroe, WI, Monroe Muni, RNAV (GPS) RWY 30, Orig

Monroe, WI, Monroe Muni, VOR/DME RWY 30, Amdt 8

Monroe, WI, Monroe Muni, VOR/DME RNAV OR GPS RWY 12, Amdt 4A, CANCELLED

Waukesha, WI, Waukesha County, NDB OR GPS RWY 28, Amdt 3B, CANCELLED

Waukesha, WI, Waukesha County, RNAV (GPS) RWY 10, Orig

Waukesha, WI, Waukesha County, RNAV (GPS) RWY 28, Orig

Waukesha, WI, Waukesha County, Takeoff Minimums and Obstacle DP, Amdt 6

Waukesha, WI, Waukesha County, VOR-A, Amdt 16

Martinsburg, WV, Eastern WV Regional/Shepherd, ILS OR LOC RWY 26, Amdt 7

On March 11, 2009 (74 FR 10471) and March 17, 2009 (74 FR 11468) the FAA published several amendments in Docket No. 30654, Amdt No. 3310 and Docket No. 30657, Amdt No. 3313 to Part 97 of the Federal Aviation Regulations under sections 97.23 and 97.29. The following entries are hereby rescinded in their entirety:

Parkersburg, WV, Mid-Ohio Valley Regional, RNAV (GPS) RWY 3, Amdt 1

Parkersburg, WV, Mid-Ohio Valley Regional, RNAV (GPS) RWY 21, Amdt 1

Parkersburg, WV, Mid-Ohio Valley Regional, RNAV (GPS) Y RWY 3, Orig, CANCELLED

Parkersburg, WV, Mid-Ohio Valley Regional, RNAV (GPS) Y RWY 21, Orig, CANCELLED

Parkersburg, WV, Mid-Ohio Valley Regional, Takeoff Minimums and Obstacle DP, Amdt 2

Parkersburg, WV, Mid-Ohio Valley Regional, VOR RWY 21, Amdt 17

[FR Doc. E9-7067 Filed 3-30-09; 8:45 am]

BILLING CODE 4910-13-P